ENVIRONMENTAL PROTECTION AGENCY

[EPA-HQ-OPP-2009-1017; FRL-9359-1]

Product Cancellation Order for Certain Pesticide Registrations

AGENCY: Environmental Protection Agency (EPA).

ACTION: Notice.

SUMMARY: This notice announces EPA's order for the cancellations, voluntarily requested by the registrants and accepted by the Agency, of the products listed in Table 1 and 2 of Unit II., pursuant to the Federal Insecticide, Fungicide, and Rodenticide Act (FIFRA). This cancellation order follows a June 13, 2012 Federal Register Notice of Receipt of Requests from the registrants listed in Table 3 of Unit II. to voluntarily cancel these product registrations. In the June 13, 2012 notice, EPA indicated that it would issue an order implementing the cancellations, unless the Agency received substantive comments within the 30 day comment period that would merit its further review of these requests, or unless the registrants withdrew their requests. The Agency received notice from one registrant, Aceto Agricultural Chemicals Corp, to withdraw their cancellation request for registration no. 002749-00119, a tributyltin oxide product. EPA did not receive any other comments on the notice. Accordingly, EPA hereby issues in this notice a cancellation order granting the requested cancellations, with the exception of registration no. 002749-00119. Any distribution, sale, or use of the products subject to this cancellation order is permitted only in accordance with the terms of this order, including any existing stocks provisions.

DATES: The cancellations are effective September 12, 2012.

FOR FURTHER INFORMATION CONTACT: Katie Weyrauch, Pesticide Re-evaluation Division (7508P), Office of Pesticide Programs, Environmental Protection Agency, 1200 Pennsylvania Ave. NW., Washington, DC 20460-0001; telephone number: (703) 308-0166; fax number: (703) 308-8005; email address: weyrauch.katie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What Action is the Agency Taking?

This notice announces the cancellation, as requested by registrants, of 121 products registered under FIFRA section 3. These registrations are listed in sequence by registration number in Tables 1 and 2 of this unit.

Table 1—Product Cancellations
Registration No. | Product name | Chemical name
000056-00068 | Eaton's Answer II | Piperonyl butoxide, Pyrethrins, Silicon Dioxide.
000279-03106 | Command 50 WP Herbicide | Clomazone.
000402-00123 | No. 2306 Di-Cide | Poly(oxy-1,2-ethanediyl(dimethylimino)-1,2-ethanediyl(dimethylimino)-1,2-ethanediyl dichloride).
000577-00545 | Clear Cuprinol Brand Wood Preservative No. 20 | Zinc naphthenate.
000707-00286 | Durotex 5000 | Octhilinone, 5-Chloro-2-methyl-3(2H)-isothiazolone, 2-Methyl-3(2H)-isothiazolone.
000748-06010 | Liquid Chlorine | Chlorine.
000748-06011 | Liquid Chlorine MU | Chlorine.
001706-00159 | Nalco 2594 | Poly(oxy-1,2-ethanediyl(dimethylimino)-1,2-ethanediyl(dimethylimino)-1,2-ethanediyl dichloride).
002724-00457 | Zoecon 9204 Fogger | Permethrin, 2,4-Dodecadienoic acid, 3,7,11-trimethyl-, ethyl ester, (S-(E,E))-.
002724-00780 | Permethrin Plus Inverted Carpet Spray | MGK 264, Permethrin, Pyriproxyfen.
005481-00434 | Tre-Hold for Citrus | Ethyl 1-naphthaleneacetate.
010088-00086 | Flying Insect Killer | d-trans-Chrysanthemum monocarboxylic ester of dl-2-allyl-4-hydroxy-3-methyl-2-cyclopenten-1-one, MGK 264, Piperonyl butoxide.
010807-00191 | Misty Fire Ant Injector Spray II | Tetramethrin, Esfenvalerate.
032802-00028 | Seed Safe—Turf Care (3.71% Siduron + 10-15-10 Lawn Food) | Siduron.
035571-00001 | Chem Pro Algae Control Ed Liquid | Poly(oxy-1,2-ethanediyl(dimethylimino)-1,2-ethanediyl(dimethylimino)-1,2-ethanediyl dichloride).
047000-00085 | Chem-Tech Dy-Sect Spray | d-trans-Chrysanthemum monocarboxylic ester of dl-2-allyl-4-hydroxy-3-methyl-2-cyclopenten-1-one, Permethrin.
047000-00088 | CT-250 | Piperonyl butoxide, Pyrethrins, Permethrin.
055137-00001 | Bio/Tec 112 | Poly(oxy-1,2-ethanediyl(dimethylimino)-1,2-ethanediyl(dimethylimino)-1,2-ethanediyl dichloride).
060061-00009 | Wolman Wood Preservative with Water Repellent Clear | Zinc naphthenate, Diiodomethyl p-tolyl sulfone.
060061-00016 | No. 00 Ready to Use Copper Treat | Copper naphthenate.
061842-00012 | Polyquat | Poly(oxy-1,2-ethanediyl(dimethylimino)-1,2-ethanediyl(dimethylimino)-1,2-ethanediyl dichloride).
062719-00263 | Lawn Fertilizer Plus Confront Weed Control | Clopyralid Triclopyr, triethylamine salt.
066806-00001 | MB-507 | Poly(oxy-1,2-ethanediyl(dimethylimino)-1,2-ethanediyl(dimethylimino)-1,2-ethanediyl dichloride).
067360-00003 | Intercide TJP | Tributyltin oxide.
075613-00001 | Stormoellen A/S—Stalosan F | Copper sulfate pentahydrate.
081880-00020 | MON 12036 Herbicide | Halosulfuron-methyl.
AR020001 | Goal 2XL Herbicide | Oxyfluorfen.
AR940005 | Lorsban 4E-HF | Chlorpyrifos.
AR960009 | Goal (R) 2XL Herbicide | Oxyfluorfen.
AZ020002 | Kerb 50W Herbicide in WSP | Propyzamide.
AZ020010 | Kerb 50W Herbicide in WSP | Propyzamide.
AZ050005 | Kerb 50W Herbicide in WSP | Propyzamide.
CA000014 | Visor 2E Herbicide | Thiazopyr.
CA010017 | Visor 2E Herbicide | Thiazopyr.
CA020010 | Success | Spinosad.
CA020016 | GF120 Fruit Fly Bait | Spinosad.
CA040020 | Kerb | Propyzamide.
CA040021 | Visor*2E | Thiazopyr.
CA790002 | Kerb 50W Selective Herbicide | Propyzamide.
CA950008 | Goal 1.6E Herbicide | Oxyfluorfen.
CA950014 | Lorsban4E | Chlorpyrifos.
CA960019 | Goal (R) 2XL Herbicide | Oxyfluorfen.
CA960020 | Goal (R) 2XL Herbicide | Oxyfluorfen.
CA960021 | Goal (R) 2XL Herbicide | Oxyfluorfen.
CA960022 | Goal (R) 2XL Herbicide | Oxyfluorfen.
CA960023 | Goal (R) 2XL Herbicide | Oxyfluorfen.
CA960026 | Goal (R) 2XL Herbicide | Oxyfluorfen.
CA960028 | Goal (R) 2XL Herbicide | Oxyfluorfen.
CA970026 | Goal (R) 2XL Herbicide | Oxyfluorfen.
CA990007 | Visor 2E Herbicide | Thiazopyr.
CA990008 | Visor 2E Herbicide | Thiazopyr.
CT020003 | Goal 2XL Herbicide | Oxyfluorfen.
DE930004 | Lorsban 4EHF | Chlorpyrifos.
FL990010 | Visor 2E Herbicide | Thiazopyr.
GA980001 | Tracer | Spinosad.
HI020001 | Goal 2XL Herbicide | Oxyfluorfen.
IA080001 | GF2017 | Nitrapyrin.
ID910016 | Kerb 50W Herbicide in WSP | Propyzamide.
KY040001 | Strongarm | Diclosulam.
LA020001 | Goal 2XL Herbicide | Oxyfluorfen.
LA020007 | Goal 2XL | Oxyfluorfen.
LA060011 | Intrepid 2F | Methoxyfenozide.
LA960012 | Goal (R) 2XL Herbicide | Oxyfluorfen.
MI940001 | Lorsban 4EHF | Chlorpyrifos.
MI970002 | Goal (R) 2XL Herbicide | Oxyfluorfen.
MN960006 | Goal (R) 2XL Herbicide | Oxyfluorfen.
MO040004 | Lorsban4E | Chlorpyrifos.
MS000010 | Goal 2XL Herbicide | Oxyfluorfen.
MS010012 | Glyphomax | Glyphosateisopropylammonium.
MS020003 | Goal 2XL Herbicide | Oxyfluorfen.
MS050001 | Glyphomax XRT | Glyphosateisopropylammonium.
MS050002 | Glypro | Glyphosateisopropylammonium.
MS960015 | Goal (R) 2XL Herbicide | Oxyfluorfen.
MT960003 | Goal (R) 2XL Herbicide | Oxyfluorfen.
NC020003 | Goal 2XL Herbicide | Oxyfluorfen.
NC960005 | Goal (R) 2XL Herbicide | Oxyfluorfen.
NC960006 | Goal (R) 2XL Herbicide | Oxyfluorfen.
NC970004 | Tracer | Spinosad.
NC990007 | Goal (R) 2XL Herbicide | Oxyfluorfen.
ND010005 | NAF545 | Glyphosateisopropylammonium.
ND020006 | Goal 2XL Herbicide | Oxyfluorfen.
ND020007 | Goal 2XL Herbicide | Oxyfluorfen.
ND050008 | Durango | Glyphosate-isopropylammonium.
ND960005 | Goal (R) 2XL Herbicide | Oxyfluorfen.
ND980001 | Goal (R) 2XL Herbicide | Oxyfluorfen.
NJ010001 | Spintor 2SC | Spinosad.
NV940002 | Lorsban 4E-HF | Chlorpyrifos.
NV990007 | Goal (R) 2XL Herbicide | Oxyfluorfen.
NY060002 | Garlon 3A | Triclopyr, triethylamine salt.
NY080008 | Radiant SC | Spinetoram (minor component (4-methyl)) Spinetoram (major component (4,5-dihydro)).
NY080009 | Delegate WG | Spinetoram (minor component (4-methyl)) Spinetoram (major component (4,5-dihydro)).
OR940027 | Lorsban 4E-HF | Chlorpyrifos.
OR960037 | Goal (R) 2XL Herbicide | Oxyfluorfen.
OR970008 | Goal (R) 2XL Herbicide | Oxyfluorfen.
PA010003 | Spintor 2SC | Spinosad.
SC000001 | Telone II | Telone.
SC970005 | Tracer | Spinosad.
SD010002 | Goal 2XL Herbicide | Oxyfluorfen.
SD960006 | Goal (R) 2XL Herbicide | Oxyfluorfen.
TN060005 | Telone II | Telone.
TN990002 | Tracer | Spinosad.
TX000002 | Visor 2E Herbicide | Thiazopyr.
TX040023 | Lock-On | Chlorpyrifos.
VA020002 | Spintor 2SC | Spinosad.
WA000010 | Lorsban-4E | Chlorpyrifos.
WA970024 | Goal (R) 2XL Herbicide | Oxyfluorfen.
WI030005 | Lorsban-4E | Chlorpyrifos.
WV010001 | Spintor 2SC | Spinosad

Table 2 contains a list of registrations for which companies paying at one of the maintenance fee caps requested cancellation in the FY 2012 maintenance fee billing cycle. Because maintaining these registrations as active would require no additional fee, the Agency is treating these requests as voluntary cancellations under 6(f)(1).

Table 2—Cancellations of Products Due to Non-Payment of Maintenance Fees
Registration No. | Product name | Chemical name
002724-00621 | Speer Py-Perm Aqueous Insect Killer #4 | Permethrin; Pyrethrins; Piperonyl butoxide.
010324-00100 | Maquat MC1416-255T | Alkyl* dimethyl benzyl ammonium chloride; Tributyltin oxide.
010324-00101 | Microbiocide T-40 | Alkyl* dimethyl benzyl ammonium chloride; Tributyltin oxide.
083504-00003 | Polyquat MUP | Poly(oxyethylene(dimethylimino)ethylene(dimethylimino)ethylene dichloride).
ID970015 | Comite Agricultural Miticide | Propargite.
OR080004 | Comite Agricultural Miticide | Propargite.
OR080005 | Comite Agricultural Miticide | Propargite.
OR080006 | Dimilin 2L | Diflubenzuron.
OR080007 | Comite Agricultural Miticide | Propargite.
OR080008 | Dimilin 2L | Diflubenzuron.
OR080009 | Comite Agricultural Miticide | Propargite.
OR080011 | Comite Agricultural Miticide | Propargite.
OR080012 | Comite | Propargite.

Table 3 of this unit includes the names and addresses of record for all registrants of the products in Tables 1 and 2 of this unit, in sequence by EPA company number. This number corresponds to the first part of the EPA registration numbers of the products listed in Tables 1 and 2 of this unit.

Table 3—Registrants of Cancelled Products
EPA Company number | Company name and address
56 | Eaton JT & Company Inc., 1393 E. Highland Rd., Twinsburg, OH 44087.
279 | FMC Corp., Agricultural Products Group, ATTN: Michael C. Zucker, 1735 Market St., RM. 1978, Philadelphia, PA 19103.
402 | Hill Manufacturing Co., Inc., 1500 Jonesboro Rd. SE, Atlanta, GA 30315.
577 | The Sherwin-Williams Co., 101 Prospect Ave., Cleveland, OH 44115.
707 | Rohm & Haas Co., 100 Independence Mall West, Philadelphia, PA 19106.
748 | PPG Industries, Inc., 4325 Rosanna Drive, Allison Park, PA 15101.
1706 | Nalco Company, 1601 West Diehl Road, Naperville, IL 60563.
2724 | Wellmark International—D/B/A Central Life Sciences, 1501 E. Woodfield Rd., Suite 200 W., Schaumburg, IL 60173.
5481 | Amvac Chemical Corporation, 4695 MacArthur Court, Suite 1200, Newport Beach, CA 92660-1706.
10088 | Athea Laboratories Inc., P.O. Box 240014, Milwaukee, WI 53224.
10324 | Mason Chemical Co, 721 W Algonquin Rd, Arlington Heights, IL 60005.
10807 | Amrep, Inc., 990 Industrial Park Drive, Marietta, GA 30062.
32802 | Gro Tec, Inc., D/B/A Howard Johnson's Enterprises Inc., Agent: RegWest Company, LLC, 8203 West 20th St., Suite A, Greeley, CO 80634-4696.
35571 | Chem Pro Lab, Inc., 941 W. 190 St., Gardena, CA 90248.
47000 | Chem-Tech, LTD, 4515 Fleur Dr. #303, Des Moines, IA 50321.
55137 | Southwest Engineers, 39478 HWY 190 E, Slidell, LA 70461.
60061 | Kop-Coat, Inc., 436 Seventh Avenue, Pittsburgh, PA 15219.
61842 | Tessenderlo Kerley, Inc., Agent: Pyxis Regulatory Consulting, Inc., 4110 136th Street N.W., Gig Harbor, WA 98332.
66806 | Tandem Technologies International, P.O. Box 1125, Carrollton, GA 30112.
67360 | Ackros Chemicals, Inc., Agent: Technology Sciences Group Inc., 1150 18th St. N.W., Suite 1000, Washington DC 20036.
75613 | Stormollen A/S, Agent: Vitfoss USA, D/B/A Kongskilde Industries, Inc., 19500 N. 1425 East Road, Hudson, IL 61748.
81880 | Canyon Group LLC, c/o Gowan Company, 370 S. Main Street, Yuma, AZ 85364.
83504 | Kerley Trading Inc., P.O. Box 15627, Phoenix, AZ 85060.
62719; NY060002; CA020016; NY080009; MS050001; ND050008; IA080001; AR940005; CA950014; DE930004; MI940001; MO040004; NV940002; OR940027; WA000010; WI030005; AZ020002; AZ020010; AZ050005; CA040020; CA790002; ID910016; CA000014; CA010017; CA040021; CA990007; CA990008; FL990010; TX000002; CA950008; MS010012; MS050002; ND010005; KY040001; SC000001; TN060005; NJ010001; PA010003; VA020002; WV010001; NY080008; CA020010; GA980001; NC970004; SC970005; TN990002; TX040023; AR960009; CA960019; CA960020; CA960021; CA960022; CA960023; CA960026; CA960028; CA970026; CT020003; LA020007; LA960012; MI970002; MN960006; MS000010; MS960015; MT960003; NC020003; NC960005; NC960006; NC990007; ND960005; ND980001; NV990007; OR960037; OR970008; SD010002; SD960006; WA970024; AR020001; HI020001; LA020001; MS020003; ND020006; ND020007; LA060011 | Dow AgroSciences LLC, 9330 Zionsville RD 308/2E, Indianapolis, IN 46268-1054
ID970015; OR080004; OR080005; OR080006; OR080007; OR080008; OR080009; OR080011; OR080012 | Chemtura Corp., 199 Benson Rd., Middlebury, CT 6749.

III. Summary of Public Comments Received and Agency Response to Comments

During the public comment period provided, EPA received a request from one registrant to rescind their request for voluntary cancellation. Aceto Agricultural Chemicals Corp. rescinded their request for voluntary cancellation of registration number 002749-00119, containing tributyltin oxide. EPA received no other comments in response to the June 13, 2012 Federal Register notice announcing the Agency's receipt of the requests for voluntary cancellations of products listed in Table 1 of Unit II.

IV. Cancellation Order

Pursuant to FIFRA section 6(f), EPA hereby approves the requested cancellations of the registrations identified in Tables 1 and 2 of Unit II. Accordingly, the Agency hereby orders that the product registrations identified in Tables 1 and 2 of Unit II. are cancelled. The effective date of the cancellations that are the subject of this notice is September 12, 2012. Any distribution, sale, or use of existing stocks of the products identified in Table 1 and 2 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of June 13, 2012 (77 FR 35379) (FRL-9351-7). The comment period closed on July 13, 2012.

VI. Provisions for Disposition of Existing Stocks

Existing stocks are those stocks of registered pesticide products which are currently in the United States and which were packaged, labeled, and released for shipment prior to the effective date of the cancellation action. The existing stocks provisions for the products subject to this order are as follows:

A. Registrations Listed in Table 1 of Unit II

The registrants may continue to sell and distribute existing stocks of products listed in Table 1 of Unit II. until September 12, 2013, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

B. Registrations Listed in Table 2 of Unit II

Registrants are allowed to sell and distribute existing stocks of these products until January 13, 2013, 1 year after the date on which the maintenance fee was due. Thereafter, registrants will be prohibited from selling or distributing the pesticides identified in Table 2 of Unit II., except for export consistent with FIFRA section 17 or for proper disposal. Persons other than registrants are allowed to sell, distribute, or use existing stocks until such stocks are exhausted, provided that such sale, distribution, or use is consistent with the terms of the previously approved labeling on, or that accompanied, the cancelled products.

List of Subjects

Environmental protection, Pesticides and pests.

Dated: August 30, 2012.
Richard P. Keigwin, Jr.,
Director, Pesticide Re-evaluation Division, Office of Pesticide Programs.

[FR Doc. 2012-22197 Filed 9-11-12; 8:45 am]

BILLING CODE 6560-50-P